INTERNATIONAL BOUNDARY AND WATER COMMISSION, UNITED STATES AND MEXICO

United States Section; Notice of Availability of Draft Environmental Impact Statement, Flood Control Improvements and Partial Levee Relocation, Presidio Flood Control Project, Presidio, TX

AGENCY: United States Section, International Boundary and Water Commission (USIBWC).

ACTION: Notice of Availability of Draft Environmental Impact Statement.

SUMMARY: Pursuant to section 102(2)(c) of the National Environmental Policy Act (NEPA) of 1969, as amended, the United States Section, International Boundary and Water Commission (USIBWC) has prepared a Draft Environmental Impact Statement (Draft EIS) for flood control improvements to the Presidio Flood Control Project, Presidio, Texas (Presidio FCP). The EIS analyzes potential impacts of the No Action Alternative and six action alternatives under consideration. Site-specific information is used to evaluate environmental consequences that may result from implementing improvements in the upper, middle and lower reaches of the Presidio FCP. The following environmental resources are assessed in the Draft EIS: Biological resources, cultural resources, water resources, land use, socioeconomic resources and transportation, environmental health issues (air quality, noise, public health, and environmental hazards), and cumulative impacts. A public hearing will be held in the City of Presidio to receive comments on the Draft EIS from interested organizations and individuals through transcription by a certified court reporter. Written comments may be submitted at the public hearing, or mailed to the USIBWC during the public review period to the contact and address below.

DATES: Written comments are requested by January 12, 2010. The Draft EIS for the Presidio Flood Control Project will be available to agencies, organizations and the general public on November 20, 2009. A copy of the Draft EIS will be available for review at the City of Presidio Library, 2440 O'Reilly Street, Presidio, Texas 79845, and will also be posted at the USIBWC Web site at http://www.ibwc.gov. The USIBWC will conduct a public hearing at the Presidio Activities Center, 1200 East O'Reilly Street, Presidio, Texas 79845, on December 10, 2009, from 5 p.m. to 7 p.m. CST. The hearing date and location will also be announced in local newspapers two weeks prior to the hearing date.

FOR FURTHER INFORMATION CONTACT: Mr. Daniel Borunda, Environmental Protection Specialist, Environmental Management Division, USIBWC, 4171 North Mesa Street, C-100, El Paso, Texas 79902 or e-mail: danielborunda@ibwc.gov.

SUPPLEMENTARY INFORMATION: The Draft EIS analyzes potential effects of the No Action Alternative and flood control improvement alternatives for the Presidio FCP. The following six action alternatives are under consideration: (1) Retaining the current levee alignment, repairing structural levee damage and raising some levee segments as required to ensure full protection from a 25-year flood event; (2) 100-year flood protection of the City of Presidio and agricultural lands along the Presidio FCP by raising the levee system along its entire length and current alignment; (3) raising the entire levee system for 100-year flood protection, retaining current levee alignment in the upper and middle reaches of the Presidio FCP but partially relocating approximately 3.4 miles of the levee in the lower reach; (4) 100-year flood protection of the City of Presidio by raising the levee system in the upper and middle reaches of the Presidio FCP, in conjunction with a new 1.3-mile spur levee starting at mile 9.2 to connect the raised levee section to elevated terrain south of the City of Presidio; a 25-year flood protection would be retained in the lower reach along agricultural lands; (5) 100-year flood protection of the City of Presidio by raising in place the levee system along the upper and middle reaches of the Presidio FCP, constructing a new 1.4-mile spur levee at mile 8.5, and retaining the 25-year flood protection in the lower reach; and (6) raising the levee along the upstream sections of the levee system to provide 100-year flood protection to the City of Presidio and retaining the 25-year flood protection of agricultural lands in the lower reach, as in the two previous alternatives, and constructing a new 2.9-mile-long spur levee in the middle reach, starting at levee mile 7.3, along a railroad track.

Five copies of the Draft EIS for the Presidio FCP have been filed with USEPA, Region 6 Office of Federal Activities, in accordance with 40 CFR parts 1500-1508 and USIBWC procedures. The public comment period of the Draft EIS will end January 12, 2010.

Dated: November 18, 2009.
Pamela Barber,
Legal Counsel.

[FR Doc. E9-28136 Filed 11-23-09; 8:45 am]

BILLING CODE 7010-01-P